DEPARTMENT OF VETERANS AFFAIRS

[OMB Control No. 2900-0205]

Agency Information Collection Activity: Applications & Appraisals for Employment for Title 38 Positions and Trainees

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before November 27, 2017.

ADDRESSES: Submit written comments on the collection of information through Federal Docket Management System (FDMS) at www.Regulations.gov or to Brian McCarthy, Veterans Health Administration, Office of Regulatory and Administrative Affairs (10B4), Department of Veterans Affairs, 810 Vermont Avenue NW., Washington, DC 20420 or email to Brian.McCarthy4@va.gov. Please refer to “OMB Control No. 2900-0205” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C. 7401 (1),(3), 38 U.S.C. 7302—Part V, Chapter 73, 38 U.S.C. 7403

Title: Application for Physicians, Dentists, Podiatrists, Optometrists and Chiropractors—VA Form 2850:

Application for Nurses and Nurse Anesthetists—VA Form 2850A

Application for Associated Health Occupations—VA Form 2850C

Application for Health Professions Trainees—VA Form 2850D

Employment Reference for Title 38 Employee—VA FL 10-341(a)

Trainee Qualification and Credentials Verification Letter (TQCVL)—VA FL 10-341(b)

OMB Control Number: 2900-0205.

Type of Review: Revision of a currently approved collection.

Abstract: Under authority of Title 38 U.S.C. Part V Chapter 74, trainees receive stipend or without compensation term appointments. Title 38 United States Code (U.S.C.), Part V, chapter 73, subchapter 1, subsection 7302 (Functions of Veterans Health Administration: health-care personnel education and training programs) mandates that Veterans Health Administration (VHA) assist in the training of health professionals for its own needs and for those of the nation.

Affected Public: Federal Government

Estimated Annual Burden:

10-2850—7,450 hours.

10-2850A—29,799 hours.

10-2850C—9,933 hours.

10-2850D—69,896 hours.

FL 10-341a—25,410 hours.

FL 10-341b—6,361 hours.

Estimated Average Burden Per Respondent:

10-2850—30 minutes.

10-2850A—30 minutes.

10-2850C—30 minutes.

10-2850D—33 minutes.

FL 10-341a—30 minutes.

FL 10-341b—3 minutes.

Frequency of Response: Annually.

Estimated Number of Respondents:

10-2850—14,900

10-2850A—59,598

10-2850C—19,866

10-2850D—127,211

FL 10-341a—50,820

FL 10-341b—127,211

By direction of the Secretary.
Cynthia Harvey-Pryor,
Department Clearance Officer, Office of Quality and Compliance, Department of Veterans Affairs.

[FR Doc. 2017-20640 Filed 9-26-17; 8:45 am]

BILLING CODE 8320-01-P